DEPARTMENT OF HEALTH AND HUMAN SERVICES

Agency Information Collection Request; 30-Day Public Comment Request, Grants

AGENCY: Office of the Secretary, HHS.

In compliance with the requirement of section 3506(c)(2)(A) of the Paperwork Reduction Act of 1995, the Office of the Secretary (OS), Department of Health and Human Services, is publishing the following summary of a proposed information collection request for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden. To obtain copies of the supporting statement and any related forms for the proposed paperwork collections referenced above, e-mail your request, including your address, phone number, OMB number, and OS document identifier, to Sherette.funncoleman@hhs.gov, or call the Reports Clearance Office on (202) 690-6162. Written comments and recommendations for the proposed information collection must be received with 30 days of this notice directly to the OS OMB Desk Officer. All comments must be faxed to OMB at 202-395-6974.

Title: SF-424 Project/Performance Site Location(s)—OMB No. 4040—New—Grants.gov.

Proposed Project: The SF-424 Project/Performance Site Location(s) form is a new form based on the Research & Related Project/Performance Site Location(s) form currently in use with the SF-424 (R&R) family (OMB No. 4040-0001). The new form will be used to meet the requirements of the Federal Funding Accountability and Transparency Act (FFATA) (P.L. 109-282). FFATA requires the Office of Management and Budget (OMB) to establish a publicly available, online database containing information about entities that receive Federal grants, loans, and contracts. The new form will assist agencies in collecting a unique recipient entity identification number, a required data element by FFATA. In addition, the form will be implemented as a required form within the following SF-424 4040 collections that have applications for federal assistance and are cleared under the following OMB numbers: 4040-0001 (R & R); OMB No. 4040-0002 (Mandatory); 4040-0003 (Short Organizational); and 4040-0004 (Core).

The form will be optional for the OMB No. 4040-0005 (Individual) collection. All SF-424 forms and data sets support the Federal Grants Streamlining Initiative (Pub. L. 106-107) by establishing consistency among Federal grant making agencies in their data collection processes. The revisions include removal of “Research & Related” from the form title and addition of a mandatory DUNS number field in the primary and additional performance location sections. A 3-year clearance is requested. Frequency of data collection varies by Federal agency.

Estimated Annualized Burden Table
Agency | Number of respondents | Number of responses per respondent | Average burden per response (in hours) | Total burden hours
NSF | 34,000 | 1 | 10/60 | 5,667
VA | 750 | 1 | 20/60 | 250
USAID | 150 | 2 | 5/60 | 25
IMLS | 140 | 3 | 5/60 | 35
DOD | 2,502 | 4.88 | 4/60 | 814
HHS | 76,949 | 1.2 | 11/60 | 16,929
DOI | 10,876 | 7 | 19/60 | 24,108
SSA | 1,000 | 2 | 2/60 | 67
NEA | 5,345 | 1 | 5/60 | 445
DOJ | 16,571 | 1 | 15/60 | 4,143
USDA | 7,150 | 1 | 10/60 | 1,192
EPA | 3,816 | 4 | 5/60 | 1,272
HUD | 9,100 | 1 | 30/60 | 4,550
NASA | 1,887 | 5 | 15/60 | 2,359
NARA | 125 | 1.2 | 10/60 | 25
NEH | 2,500 | 1.5 | 15/60 | 938
DOT | 3,400 | 1 | 53/60 | 3,003
ED | 14,191 | 1 | 10/60 | 2,365
Total |  |  |  | 68,187

Terry Nicolosi,
Office of the Secretary, Paperwork Reduction Act Reports Clearance Officer.

[FR Doc. E8-14427 Filed 7-3-08; 8:45 am]

BILLING CODE 4151-AE-P